DEPARTMENT OF ENERGY

Federal Energy Regulatory Commission

[Docket No. RP02-20-000]

Portland Natural Gas Transmission System; Notice of Tariff Filing of Annual Charge Adjustment

October 16, 2001.

Take notice that on October 11, 2001, Portland Natural Gas Transmission System (PNGTS) tendered for filing as part of its FERC Gas Tariff, Original Volume No. 1, 1st Rev Original Sheet No. 100 . The proposed effective date of this revised tariff sheet is October 1, 2001.

PNGTS states that, pursuant to Section 154.402 of the Commission's regulations and Section 17 of the General Terms and Conditions of its tariff, it is filing the referenced tariff sheet to reflect implementation of the Annual Charge Adjustment surcharge of $0.0022 per Dth. PNGTS states further that it is filing this tariff sheet within 10 days of receipt of its bill for the Annual Charge Adjustment.

PNGTS states that copies of its filing were served on all jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before October 23, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26504 Filed 10-22-01; 8:45 am]

BILLING CODE 6717-01-P